DEPARTMENT OF DEFENSE

Department of the Army; Corps of Engineers

Inland Waterways Users Board

AGENCY: Department of the Army, U.S. Army Corps of Engineers, DoD.

ACTION: Notice of open meeting.

SUMMARY: In accordance with 10(a)(2) of the Federal Advisory Committee Act (Pub. L. 92-463), announcement is made of the forthcoming meeting.

Name of Committee: Inland Waterways Users Board (Board).

Date: August 29, 2012.

Location: The Sheraton St. Louis City Center Hotel and Suites, 400 South 14th Street, St. Louis, MO 63103 at (314) 231-5007.

Time: Registration will begin at 8:30 a.m. and the meeting is scheduled to adjourn at approximately 1:00 p.m.

Agenda: The agenda will include the status of funding for inland navigation projects and studies and the status of the Inland Waterways Trust Fund, the funding status for Fiscal Year (FY) 2012 and the FY 2013 budget, status of the Olmsted Locks and Dam Project, and the Board will consider its project investment recommendations for the next year.

FOR FURTHER INFORMATION CONTACT: Mr. Mark R. Pointon, Institute for Water Resources, U.S. Army Corps of Engineers, CEIWR-GM, 7701 Telegraph Road, Casey Building, Alexandria, Virginia 22315-3868; Ph: 703-428-6438.

SUPPLEMENTARY INFORMATION: The meeting is open to the public. Any interested person may attend, appear before, or file statements with the committee at the time and in the manner permitted by the committee.

Brenda S. Bowen,
Army Federal Register Liaison Officer.

[FR Doc. 2012-18348 Filed 7-26-12; 8:45 am]

BILLING CODE 3720-58-P